DEPARTMENT OF JUSTICE

Notice of Lodging of Amendment to Consent Decree Under the Comprehensive Environmental Response, Compensation and Liability Act

Notice is hereby given that on January 9, 2009, a proposed amendment to the consent decree (“Second Consent Decree Amendment”) in United States v. American Cyanamid, et al., Civil Action No. 2:93-0654 was lodged with the United States District Court for the Southern District of West Virginia.

The original consent decree, entered on February 19, 1997, resolved claims that the United States filed under Sections 106 and 107 of CERCLA, 42 U.S.C. 9606 and 9607, for implementation of response actions to remediate contamination and for past response costs incurred at the Fike/Artel Chemical Company Superfund Site (“Site”), located near Nitro, West Virginia. The original consent decree was amended on July 10, 1997 to include the final two parties in this matter.

Pursuant to the original consent decree, and as amended July 10, 1997, Settling Work Defendants agreed to undertake future response actions at the Site. On September 28, 2001, EPA issued a ROD for the groundwater and soil remediation component of the Site clean-up. After further investigation and data collection, EPA amended this ROD in December 2006 by selecting in situ biosparging rather than extraction and treatment as the preferred remedy to address groundwater contamination at the Site. The proposed Second Consent Decree Amendment incorporates the Work required by the amended ROD for groundwater remediation at the Site.

The Department of Justice will receive for a period of thirty (30) days from the date of this publication comments relating to the Second Consent Decree Amendment. Comments should be addressed to the Assistant Attorney General, Environment and Natural Resources Division, and either emailed to pubcomment-ees.enrd@usdoj.gov or mailed to P.O. Box 7611, U.S. Department of Justice, Washington, DC 20044-7611, and should refer to United States v. American Cyanamid, et al., D.J. Ref. 90-11-3-706.

The Second Consent Decree Amendment may be examined at the Office of the United States Attorney, 300 Virginia Street, East, Charleston, WV, 25301, and at U.S. EPA Region 3, 1650 Arch Street, Philadelphia, PA 19103. During the public comment period, the Second Consent Decree Amendment may also be examined on the following Department of Justice Web site, to http://www.usdoj.gov/enrd/Consent_Decrees.html. A copy of the Second Consent Decree Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.50 (25 cents per page reproduction cost) payable to the U.S. Treasury or, if by e-mail or fax, forward a check in that amount to the Consent Decree Library at the stated address.

Robert Brook,
Assistant Chief, Environmental Enforcement Section, Environment and Natural Resources Division.

[FR Doc. E9-1046 Filed 1-16-09; 8:45 am]

BILLING CODE 4410-15-P